DEPARTMENT OF DEFENSE

Office of the Secretary

[Docket ID DOD-2008-OS-0164]

Privacy Act of 1974; System of Records

AGENCY: Defense Logistics Agency, DoD.

ACTION: Notice to Add a System of Records.

SUMMARY: The Defense Logistics Agency is proposing to add a system of records to its inventory of record systems subject to the Privacy Act of 1974 (5 U.S.C. 552a), as amended.

DATES: The changes will be effective on January 29, 2009 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency notices for systems of records subject to the Privacy Act of 1974 (5 U.S.C. 552a), as amended, have been published in the Federal Register and are available from the address above.

The proposed systems reports, as required by 5 U.S.C. 552a(r) of the Privacy Act of 1974, as amended, were submitted on December 17, 2008 to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 18, 2008.
Morgan E. Frazier,
Alternate OSD Federal Register Liaison Officer, Department of Defense.

S900.50

SYSTEM NAME:

Labor Hours, Project and Workload Records.

SYSTEM LOCATION:

Headquarters, Defense Logistics Agency, 8725 John J. Kingman Road, Stop 6226, Fort Belvoir, VA 22060-6221, and each Defense Logistics Agency (DLA) Field Activity. Official mailing addresses are published as an appendix to DLA's compilation of systems of records notices.

CATEGORIES OF INDIVIDUALS COVERED BY THE SYSTEM:

Defense Logistics Agency military personnel and contractors.

CATEGORIES OF RECORDS IN THE SYSTEM:

Records maintained include individual's name, User ID, position, supervisor/contracting officer's technical representative, timekeeper, project manager, system access level, organization and office location, contract company, e-mail address and office telephone numbers; rate, work schedule, project and workload records, time and attendance, regular and overtime work hours and leave hours.

AUTHORITY FOR MAINTENANCE OF THE SYSTEM:

5 U.S.C. 301, Departmental Regulations; 10 U.S.C. 136, Under Secretary of Defense for Personnel and Readiness; 5 U.S.C. Chapter 61, Hours of Work; Chapter 53, Pay Rates and Systems; Chapter 57, Travel, Transportation, and Subsistence; and Chapter 63, Leave; 41 U.S.C. 405a, Uniform Federal Procurement Regulations and Procedures; and FAR Part 16.601(b)(1).

PURPOSE(S):

For the purpose of tracking workload/project activity for analysis and reporting purposes, time and attendance, and labor distribution data against projects for management and planning purposes; to maintain management records associated with the operations of the contract; to evaluate and monitor the contractor performance and other matters concerning the contract.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DOD as a routine use pursuant to 5 U.S.C. 552a(b)(3) as follows:

To the contractor's employer for the purpose of resolving any discrepancy in hours billed to Defense Logistics Agency in accordance with FAR Clause 16.601 (b)(1). Records released include individual's name, User ID, position, company, project and workload records, time and attendance, regular and overtime work hours and leave hours.

The DOD “Blanket Routine Uses” also apply to this system of records.

POLICIES AND PRACTICES FOR STORING, RETRIEVING, ACCESSING, RETAINING, AND DISPOSING OF RECORDS IN THE SYSTEM:

STORAGE:

Paper records in file folders and on electronic storage media.

RETRIEVABILITY:

Records are retrieved by subject individual's name or User ID.

SAFEGUARDS:

Records are maintained in a controlled facility. Physical entry is restricted by the use of locks, guards, and is accessible only to authorized personnel. Access to computerized data is controlled by Common Access Cards (CAC) and computer screens automatically lock after a preset period of inactivity with re-entry controlled by Common Access Cards (CAC). Access to record is limited to person(s) responsible for servicing the records in the performance of their official duties and who are properly screened and cleared for need-to-know. Individuals accessing the system of records are to have taken Information Assurance and Privacy Act training.

RETENTION AND DISPOSAL:

Disposition pending (until the National Archives and Records Administration has approved the disposition of these records, treat these records as permanent).

SYSTEM MANAGER(S) AND ADDRESS:

Project Manager, J6-U New Cumberland Deputy Director's Office, Defense Logistics Agency, 2001 Mission Drive, Suite 2, New Cumberland, PA 17070-5004. For a list of system managers at the Defense Logistics Agency Field Activities, write to the Project Manager.

NOTIFICATION PROCEDURE:

Individuals seeking to determine whether information about themselves is contained in this system of records should address written inquiries to the Privacy Act Office, Headquarters, Defense Logistics Agency, ATTN: DGA, 8725 John J. Kingman Road, Suite 1644, Fort Belvior, VA 22060-6221 or to the Privacy Act Office of the Defense Logistics Agency Field Activity where employed. Official mailing addresses are published as an appendix to DLA's compilation of systems of records notices.

Inquiry should contain the subject individual's full name, User ID, return mailing address, and organizational location of employee.

RECORD ACCESS PROCEDURES:

Individuals seeking access to information about themselves contained in this system of records should address written inquiries to the Privacy Act Office, Headquarters, Defense Logistics Agency, ATTN: DGA, 8725 John J. Kingman Road, Suite 1644, Fort Belvior, VA 22060-6221 or to the Privacy Act Office of the DLA Field Activity where employed. Official mailing addresses are published as an appendix to DLA's compilation of systems of records notices.

Inquiry should contain the subject individual's full name, User ID, return mailing address, and organizational location of employee.

CONTESTING RECORD PROCEDURES:

The DLA rules for accessing records, for contesting contents, and appealing initial agency determinations are contained in 32 CFR part 323, or may be obtained from the Privacy Act Office, Headquarters, Defense Logistics Agency, ATTN: DGA, 8725 John J. Kingman Road, Suite 1644, Fort Belvior, VA 22060-6221.

RECORD SOURCE CATEGORIES:

Subject individual, supervisors, timekeepers, project manager, contractor officers, contractor representatives, and managers.

EXEMPTIONS CLAIMED FOR THE SYSTEM:

None.

[FR Doc. E8-30876 Filed 12-29-08; 8:45 am]

BILLING CODE 5001-06-P